COMMISSION ON CIVIL RIGHTS

Agenda and Notice of Public Meeting of the Alaska Advisory Committee

Notice is hereby given, pursuant to the provisions of the rules and regulations of the U.S. Commission on Civil Rights, that a factfinding forum of the Alaska Advisory Committee to the Commission will convene at 12:30 p.m. and adjourn at 5:00 p.m. on Thursday, October 25, 2001, at the Hilton Anchorage Hotel, 500 West Third Avenue, Anchorage, Alaska 99501. The purpose of the factfinding forum is to gather information from representatives of Native Alaskan villages on civil rights concerns in administration of justice, education and employment.

Persons desiring additional information, or planning a presentation to the Committee, should contact Committee Chairperson or Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, September 10, 2001.
Ivy L. Davis,
Chief, Regional Programs Coordination Unit.

[FR Doc. 01-23094 Filed 9-14-01; 8:45 am]

BILLING CODE 6335-01-P